FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than January 18, 2022.

A. Federal Reserve Bank of New York (Ivan Hurwitz, Senior Vice President) 33 Liberty Street, New York, New York 10045-0001. Comments can also be sent electronically to Comments.applications@ny.frb.org:

1. Felix Scherzer, Scherzer Capital, LLC, and the Scherzer Family Trust, Thomas Nakashian, as trustee, all of New York, New York; a group acting in concert, to acquire voting shares of Patriot National Bancorp, Inc., and thereby indirectly acquire voting shares of Patriot National Bank, both of Stamford, Connecticut.

B. Federal Reserve Bank of Atlanta (Erien O. Terry, Assistant Vice President) 1000 Peachtree Street NE, Atlanta, Georgia 30309. Comments can also be sent electronically to Applications.Comments@atl.frb.org:

1. Stilwell Activist Investments, L.P, Stilwell Activist Fund, L.P., and Stilwell Value Partners VII, L.P., collectively known as “The Stilwell Group,” with Stilwell Value LLC, the general partner of each of the limited partnerships, all of New York, New York; and Joseph D. Stilwell, San Juan, Puerto Rico, each individually and as a group acting in concert, to acquire voting shares of Peoples Financial Corporation, and thereby indirectly acquire voting shares of The Peoples Bank, both of Biloxi, Mississippi.

C. Federal Reserve Bank of Chicago (Colette A. Fried, Assistant Vice President) 230 South LaSalle Street, Chicago, Illinois 60690-1414:

1. JST 2020 Trust, Stephanie C. Thomson and CUSB Bank as co-trustees, all of Cresco, Iowa; to join the Thomson Family Control Group, a group acting in concert, to retain voting shares of How-Win Development Co., and thereby indirectly retain voting shares of CUSB Bank, both of Cresco, Iowa.

D. Federal Reserve Bank of Dallas (Karen Smith, Director, Applications) 2200 North Pearl Street, Dallas, Texas 75201-2272:

1. Joseph V. Gillen, Spicewood, Texas, individually and as co-trustee of the Woodforest Financial Group Employee Stock Ownership Plan (with 401k Provisions), and as co-trustee of the Woodforest Financial Group Employee Stock Ownership Trust, both of The Woodlands, Texas; to acquire voting shares of Woodforest Financial Group, Inc., and thereby indirectly acquire voting shares of Woodforest National Bank, both of The Woodlands, Texas.

E. Federal Reserve Bank of San Francisco (Sebastian Astrada, Director, Applications) 101 Market Street, San Francisco, California 94105-1579:

1. Medina 2021 MNBH Trust, Burlingame, California; and Alma Vivar, as trustee, Daly City, California; to acquire voting shares of MNB Holdings Corporation, and thereby indirectly acquire voting shares of Mission National Bank, both of San Francisco, California.

Board of Governors of the Federal Reserve System, December 27, 2021.
Ann E. Misback,
Secretary of the Board.

[FR Doc. 2021-28388 Filed 12-29-21; 8:45 am]

BILLING CODE P